DEPARTMENT OF TRANSPORTATION

[Docket No. DOT-OST-2011-0022]

Request for Comments on a New Information Collection

AGENCY: Office of the Secretary, Department of Transportation.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on August 23, 2011 (76 FR 52731).

DATES: Comments must be submitted on or before March 26, 2012.

FOR FURTHER INFORMATION CONTACT: Blane Workie or Daeleen Chesley, Office of the Secretary, Office of the Assistant General Counsel for Aviation Enforcement and Proceedings (C-70), Department of Transportation, 1200 New Jersey Ave. SE., Washington, DC 20590, (202) 366-9342 (voice) 202-366-7152 (fax) or at Blane.Workie@dot.gov or Daeleen.Chesley@dot.gov.

SUPPLEMENTARY INFORMATION: Title: Submission of Aviation Consumer Protection Division Web page On-Line Aviation Complaint Form.

Type of Request: Request for an OMB control number for a new information collection.

Abstract: The Department of Transportation's (Department) Office of the Assistant General Counsel for Aviation Enforcement and Proceedings (Enforcement Office) has broad authority under 49 U.S.C., Subtitle VII, to investigate and enforce consumer protection and civil rights laws and regulations related to air transportation. The Enforcement Office, including its Aviation Consumer Protection Division (ACPD), monitors compliance with and investigates violations of the Department of Transportation's aviation economic, consumer protection, and civil rights requirements.

Among other things, the office is responsible for receiving and investigating service-related consumer complaints filed against air carriers. Once received, the complaints are reviewed by the office to determine the extent to which carriers are in compliance with federal aviation consumer protection and civil rights laws and what, if any, action should be taken.

The key reason for this request is to enable consumers to file their complaints to the Department using an on-line form. If the information collection form is not available, the Department may receive fewer complaints from consumers. The lack of information could inhibit the Departments' ability to improve airline consumer satisfaction, effectively investigate individual complaints against an air carrier, and/or determine patterns and practices that may develop with an air carrier's services in violation of our rules. The information collection also furthers the objectives of 49 U.S.C. 41712, 40101, 40127, 41702, and 41705 to protect consumers from unfair or deceptive practices, to protect the civil rights of air travelers, and to ensure safe and adequate service in air transportation.

Filing a complaint using a web-based form is voluntary and minimizes the burden on the public. Consumers can also choose to file a complaint with the Department by sending a letter using regular mail or by phone message. The type of information requested on the on-line form includes complainant's name, address, daytime phone number (including area code) and email address, name of the airline or company about which she/he is complaining, flight date, flight number, and origin and destination cities of complainant's trip. A consumer may also use the form to give a description of a specific problem or to ask for air-travel related information from the ACPD. The Department has limited its informational request to only that information necessary to meet its program and administrative monitoring and enforcement requirements.

On August 23, 2011, the Department published a 60-day notice in the Federal Register (76 FR 52732) asking for comments on whether this collection of information is necessary for the proper performance of the functions of the Department. We received one comment in the docket from a commenter that supported the Department collecting the information.

Respondents: Consumers that Choose to File an On-Line Complaint with the Aviation Consumer Protection Division.

Estimated Number of Respondents: 8,693 (based on CY 2011 data).

Estimated Total Burden on Respondents: 2,173.25 (hours), 130,395 (minutes).

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. chapter 35, as amended; and 49 CFR 1.48.

Issued in Washington, DC, on February 17, 2012.
Patricia Lawton,
Departmental PRA Clearance Officer, Office of the Secretary.

[FR Doc. 2012-4317 Filed 2-23-12; 8:45 am]

BILLING CODE 4910-9X-P